DEPARTMENT OF THE INTERIOR

Bureau of Land Management

[ES-960-1420-BJ]

Group No. 36, Missouri; Eastern States: Filing of Plats of Survey

AGENCY: Bureau of Land Management, Interior.

ACTION: Notice of Filing of Plat of Survey; Missouri.

SUMMARY: The Bureau of Land Management (BLM) will file the plats of survey of the lands described below in the BLM-Eastern States, Springfield, Virginia, 30 calender days from the date of publication in the Federal Register.

FOR FURTHER INFORMATION CONTACT: Bureau of Land Management, 7450 Boston Boulevard, Springfield, Virginia 22153. Attn: Cadastral Survey.

SUPPLEMENTARY INFORMATION: This survey was requested by the Corps of Engineers.

The lands we surveyed are:

Fifth Principal Meridian, Missouri

T. 27 N., R. 15 W.

The plat of survey represents the dependent resurvey of a portion of U.S. Survey No. 2848 and a portion of the subdivisional lines; and the survey of the Thompson Bend Acquisition Boundary, and was accepted February 6, 2007.

T. 27 N., R. 16 W.

The plat of survey represents the dependent resurvey of a portion of the subdivisional lines; and the survey of the Thompson Bend Acquisition Boundary, and was accepted February 6, 2007.

T. 28 N., R. 16 W.

The plat of survey represents the dependent resurvey of a portion of the township boundaries; and the survey of the Thompson Bend Acquisition Boundary, and was accepted February 6, 2007.

T. 27 N., R. 17 W.

The plat of survey represents the dependent resurvey of a portion of the subdivisional lines; and the survey of the subdivision of Section 5, and the Thompson Bend Acquisition Boundary, and was accepted February 6, 2007.

T. 28 N., R. 17 W.

The plat of survey represents the dependent resurvey of a portion of the South boundary and a portion of the subdivisional lines; and the survey of the Thompson Bend Acquisition Boundary, and was accepted February 6, 2007.

We will place a copy of the plats we described in the open files. They will be available to the public as a matter of information.

If BLM receives a protest against this survey, as shown on the plat, prior to the date of the official filing, we will stay the filing pending our consideration of the protest.

We will not officially file the plat until the day after we have accepted or dismissed all protests and they have become final, including decisions on appeals.

Dated: February 16, 2007.
Jerry L. Wahl,
Acting Chief Cadastral Surveyor.

[FR Doc. E7-3330 Filed 2-26-07; 8:45 am]

BILLING CODE 4310-GJ-P